DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Site Visit Protocols for the Multi-Site Evaluation of the Welfare-to-Work Grant Program—0990-0230—Revision—This data collection will provide site specific information for a sample of Welfare-to-Work (WtW) grant programs which will support the Office of the Assistant Secretary for Planning and Evaluation in its efforts to further document the status of the grants program and provide information on implementation issues as part of the Congressionally mandated evaluation of the WtW grants program. Respondents: Individuals, State, Local or Tribal Governments, Non-profit Institutions—Burden Information for Staff Interviews—Number of Responses: 360; Burden per Response: 1 hour; Total Burden for Staff Interviews: 360 hours—Burden Information for Focus Groups—Number of Responses: 350; Burden per Response: 1.5 hours; Total Burden for Focus Groups: 540 hours—Burden Information for Individual Tribal Program Participants—Number of Responses: 50; Burden per Response: .5 hours; Total Burden for Tribal Participants: 30 hours—Total Burden—930 hours.

2. Follow-up Survey for the Multi-Site Evaluation of the Welfare-to-Work Grant Program—New—This information collection will support the Office of the Assistant Secretary for Planning and Evaluation in its efforts to evaluate the WtW grant program by obtaining detailed information on program participants circumstances and experiences with the program. Respondents: Individuals; Number of Respondents: 7225; Number of Responses: 12,750; Burden per Response: 46 minutes; Total Burden: 9819 hours; OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW, Washington, DC 20503.

Comments may also be sent to Cynthia Agens Bauer, OS Reports Clearance Officer, Room 503H, Humphrey Building, 200 Independence Avenue SW, Washington, DC, 20201. Written comments should be received within 30 days of this notice.

Dated: March 24, 2000.
Dennis P. Williams,
Deputy Assistant Secretary, Budget.

[FR Doc. 00-8050 Filed 3-31-00; 8:45 am]

BILLING CODE 4150-04-M